DEPARTMENT OF ENERGY

Federal Energy Regulatory Commission

Combined Notice of Filings #2

November 8, 2005.

Take notice that the Commission received the following electric rate filings.

Docket Numbers: ER02-1406-011; ER01-1099-010; ER99-2928-007; ER01-1397-007; EL06-4-000.

Applicants: Acadia Power Partners, LLC; Cleco Power LLC; Cleco Evangeline LLC; Perryville Energy Partners, LLC.

Description: The Cleco Companies submitted a compliance filing, in response to FERC's October 21, 2005 Order.

Filed Date: October 27, 2005.

Accession Number: 20051104-0103.

Comment Date: 5 p.m. eastern time on Thursday, November 17, 2005.

Docket Numbers: ER06-77-000.

Applicants: Illinois Municipal Electric Agency.

Description: Illinois Municipal Electric Agency submits a corrected FERC Rate Schedule No. 1 to its October 28, 2005 filing.

Filed Date: October 31, 2005.

Accession Number: 20051104-0269.

Comment Date: 5 p.m. eastern time on Monday, November 21, 2005.

Docket Numbers: ER06-145-000.

Applicants: Commonwealth Electric Company.

Description: Commonwealth Electric Co submits an executed Merchants Way Interconnection Agreement with New England Power Co dated November 1, 2005.

Filed Date: November 2, 2005.

Accession Number: 20051104-0319.

Comment Date: 5 p.m. eastern time on Wednesday, November 23, 2005.

Docket Numbers: ER06-146-000.

Applicants: Alliance Energy Marketing, LLC.

Description: Alliance Energy Marketing, LLC submits an application for acceptance of an Initial Market-Based Rate Tariff, Waiving Regulations and Granting Blanket Approvals.

Filed Date: November 2, 2005.

Accession Number: 20051104-0315.

Comment Date: 5 p.m. eastern time on Wednesday, November 23, 2005.

Docket Numbers: ER06-147-000.

Applicants: Kentucky Utilities Company.

Description: Kentucky Utilities Co submits a Notice of Cancellation of Transmission Agreement with Eastern Kentucky Power Cooperative.

Filed Date: November 2, 2005.

Accession Number: 20051104-0316.

Comment Date: 5 p.m. eastern time on Wednesday, November 23, 2005.

Docket Numbers: ER06-148-000.

Applicants: Virginia Electric and Power Company.

Description: Virginia Electric & Power Co submits its Rate Schedule FERC No. 133, its updated revenue requirement for Reactive Supply & Voltage Control from Generation Sources Service etc under Schedule 2 of the PJM Interconnection Open Access Transmission Tariff.

Filed Date: November 2, 2005.

Accession Number: 20051104-0320.

Comment Date: 5 p.m. eastern time on Wednesday, November 23, 2005.

Docket Numbers: ER06-149-000.

Applicants: Entergy Services, Inc.

Description: Entergy Services Inc, on behalf of Entergy Arkansas Inc submits Second Revised Rate Schedule No. 98 with the City of Conway and First Revised Rate Schedule No. 99 with the City of West Memphis, Arkansas.

Filed Date: November 2, 2005.

Accession Number: 20051104-0321.

Comment Date: 5 p.m. eastern time on Wednesday, November 23, 2005.

Docket Numbers: ER99-3491-007; ER00-2184-005; ER00-2185-005; EL05-124-002.

Applicants: PP&L Montana, LLC; PPL Colstrip I, LLC; PPL Colstrip II, LLC.

Description: PPL Montana, LLC et al submits the Delivered Price Test analyses in accordance with FERC's order issued 9/1/05 in the triennial market-based rate update proceeding.

Filed Date: October 31, 2005.

Accession Number: 20051104-0324.

Comment Date: 5 p.m. eastern time on Monday, November 21, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6271 Filed 11-14-05; 8:45 am]

BILLING CODE 6717-01-P